SMALL BUSINESS ADMINISTRATION

13 CFR Part 136

Enforcement of Nondiscrimination on the Basis of Handicap in Programs or Activities Conducted by the Small Business Administration

CFR Correction

In Title 13 of the Code of Federal Regulations, revised as of January 1, 2015, on pages 658 and 659, in § 136.170, remove “Director, OEEOC” each time it appears in paragraphs (h)(1) and (j)(1) and (2) and add, in its place, “AA/EEOCCR”.

[FR Doc. 2015-31740 Filed 12-17-15; 8:45 am]

BILLING CODE 1505-01-D